NUCLEAR REGULATORY COMMISSION

[NRC-2020-0202]

NuScale Power, LLC; NuScale Small Modular Reactor

AGENCY: Nuclear Regulatory Commission.

ACTION: Standard design approval; issuance.

SUMMARY: The U.S. Nuclear Regulatory Commission (NRC) has issued a standard design approval (SDA) to NuScale Power, LLC (NuScale) for the NuScale small modular reactor (SMR) standard design. The SDA allows the NuScale SMR standard design to be referenced in an application for a construction permit or operating license, or an application for a combined license or manufacturing license under its regulations.

DATES: The Standard Design Approval was issued on September 11, 2020.

ADDRESSES: Please refer to NRC-2020-0202 when contacting the NRC about the availability of information regarding this document. You may obtain publicly-available information related to this document using any of the following methods:

• Federal Rulemaking Website: Go to https://www.regulations.gov and search for Docket ID NRC-2020-0202. Address questions about Docket IDs in Regulations.gov to Jennifer Borges; telephone: 301-287-9127; email: Jennifer.Borges@nrc.gov. For technical questions, contact the individual listed in the FOR FURTHER INFORMATION CONTACT section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room reference staff at 1-800-397-4209, 301-415-4737, or by email to pdr.resource@nrc.gov. The NuScale Power Standard Design, Standard Design Approval is available in ADAMS under Accession No. ML20247J564.

FOR FURTHER INFORMATION CONTACT: Gregory Cranston, Office of Nuclear Reactor Regulation, U.S. Nuclear Regulatory Commission, Washington, DC 20555-0001; telephone: 301-415-0546, email: Gregory.Cranston@nrc.gov.

SUPPLEMENTARY INFORMATION: The U.S. Nuclear Regulatory Commission has issued a standard design approval (SDA) to NuScale Power, LLC, for the NuScale small modular reactor (SMR) standard design under subpart E, “Standard Design Approvals,” of title 10 of the Code of Federal Regulations (10 CFR) part 52, “Licenses, Certifications, and Approvals for Nuclear Power Plants.” This SDA allows the NuScale SMR standard design to be referenced in an application for a construction permit or operating license under 10 CFR part 50, “Domestic Licensing of Production and Utilization Facilities,” or an application for a combined license or manufacturing license under 10 CFR part 52. In addition, the NRC has issued the final safety evaluation report (FSER) (ADAMS Package Accession No. ML20023A318) that supports issuance of the SDA.

Issuance of this SDA signifies completion of the NRC staff's technical review of the NuScale SMR design. The NRC staff performed its technical review of the NuScale SMR design control document in accordance with the standards for review of standard design approval applications set forth in 10 CFR 52.139, “Standards for Review of Applications.”

On the basis of its evaluation and independent analyses, as described in the FSER, the NRC staff concludes that NuScale's application for standard design approval meets the applicable portions of 10 CFR 52.137, “Content of Applications; Technical Information,” and the review standards identified in 10 CFR 52.139.

Copies of the NuScale SMR FSER and SDA have been placed in the NRC's PDR. The PDR is currently closed. However, you may order copies by submitting a request to the PDR via email at PDR.Resource@nrc.gov or call 1-800-397-4209 between 8:00 a.m. and 4:00 p.m. (EST), Monday through Friday, except Federal holidays.

Dated: September 23, 2020.
For the Nuclear Regulatory Commission.
Anna H. Bradford,
Director, Division of New and Renewed Licenses, Office of Nuclear Reactor Regulation.

[FR Doc. 2020-21429 Filed 9-28-20; 8:45 am]

BILLING CODE 7590-01-P